COMMITTEE FOR PURCHASE FROM PEOPLE WHO ARE BLIND OR SEVERELY DISABLED

Procurement List; Additions

AGENCY: Committee for Purchase From People Who Are Blind or Severely Disabled.

ACTION: Additions to Procurement List.

SUMMARY: This action adds to the Procurement List products and services to be furnished by nonprofit agencies employing persons who are blind or have other severe disabilities.

EFFECTIVE DATE: July 24, 2005.

ADDRESSS: Committee for Purchase From People Who Are Blind or Severely Disabled, Jefferson Plaza 2, Suite 10800, 1421 Jefferson Davis Highway, Arlington, Virginia 22202-3259.

FOR FURTHER INFORMATION OR TO SUBMIT COMMENTS CONTACT: Sheryl D. Kennerly, Telephone: (703) 603-7740, Fax: (703) 603-0655, or e-mail SKennerly@jwod.gov.

SUPPLEMENTARY INFORMATION: On April 15, and April 29, 2005, the Committee for Purchase From People Who Are Blind or Severely Disabled published notice (70 FR 19924, and 22297/22298) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

Adhesive Roller Mop

NSN: M.R. 1095—Refill

NSN: M.R. 1085—Mop

NPA: Winston-Salem Industries for the Blind, Winston-Salem, North Carolina.

Contracting Activity: Defense Commissary Agency (DeCA), Fort Lee, Virginia.

Services

Service Type/Location: Cleaning Service—Gutter Cleaning; Bremerton Naval Complex, Bremerton, Washington.

NPA: Skookum Educational Programs, Port Townsend, Washington.

Contracting Activity: Naval Facilities Engineering Command, Engineering Field Activity, Northwest, Poulsbo, Washington.

Service Type/Location: Custodial Services; Basewide, Naval Submarine Base, Bangor, Washington.

NPA: Skookum Educational Programs, Port Townsend, Washington.

Contracting Activity: Naval Facilities Engineering Command, Engineering Field Activity, Northwest, Poulsbo, Washington.

Service Type/Location: Custodial Services; Department of Homeland Security, Customs & Border Protection; Pier One Ala Moana Blvd., Honolulu, Hawaii.

NPA: Lanakila Rehabilitation Center, Honolulu, Hawaii.

Contracting Activity: Department of Homeland Security, Indianapolis, Indiana.

Service Type/Location: Custodial Services; Jim Creek Radio Station, Jim Creek, Washington.

NPA: Northwest Center for the Retarded, Seattle, Washington.

Contracting Activity: Naval Facilities Engineering Command, Engineering Field Activity, Northwest, Poulsbo, Washington.

Service Type/Location: Custodial Services; Naval Undersea Warfare Center Division, Keyport, Washington.

NPA: Skookum Educational Programs, Port Townsend, Washington.

Contracting Activity: Naval Facilities Engineering Command, Engineering Field Activity, Northwest, Poulsbo, Washington.

Service Type/Location: Custodial Services; Smokey Point Support Complex, Smokey Point, Washington.

NPA: Northwest Center for the Retarded, Seattle, Washington.

Contracting Activity: Naval Facilities Engineering Command, Engineering Field Activity, Northwest, Poulsbo, Washington.

Service Type/Location: Grounds Maintenance; Bangor Naval Submarine Base, Bangor, Washington.

NPA: Peninsula Services, Bremerton, Washington.

Contracting Activity: Naval Facilities Engineering Command, Engineering Field Activity, Northwest, Poulsbo, Washington.

Service Type/Location: Grounds Maintenance; Naval Hospital Bremerton; HP01 Boone Road, Bremerton, Washington.

NPA: Peninsula Services, Bremerton, Washington.

Contracting Activity: Naval Facilities Engineering Command, Engineering Field Activity, Northwest, Poulsbo, Washington.

Service Type/Location: Grounds Maintenance; Camp Wesley Harris Rifle Range, Bremerton, Washington.

NPA: Peninsula Services, Bremerton, Washington.

Contracting Activity: Naval Facilities Engineering Command, Engineering Field Activity, Northwest, Poulsbo, Washington.

Service Type/Location: Grounds Maintenance; Flight Line and Surrounding Runway Areas; NAS Whidbey Island, Washington.

NPA: New Leaf, Inc., Oak Harbor, Washington.

Contracting Activity: Naval Facilities Engineering Command, Engineering Field Activity, Northwest, Poulsbo, Washington.

Service Type/Location: Grounds Maintenance; Jackson Park Housing Area, Bremerton, Washington.

NPA: Peninsula Services, Bremerton, Washington.

Contracting Activity: Naval Facilities Engineering Command, Engineering Field Activity, Northwest, Poulsbo, Washington.

Service Type/Location: Grounds Maintenance; Outlying Field Area (OLF) near Coupeville, Washington.

NPA: New Leaf, Inc., Oak Harbor, Washington.

Contracting Activity: Naval Facilities Engineering Command, Engineering Field Activity, Northwest, Poulsbo, Washington.

Service Type/Location: Hospital Housekeeping Services; Naval Hospital Bremerton; HP01 Boone Road, Bremerton, Washington.

NPA: Skookum Educational Programs, Port Townsend, Washington.

Contracting Activity: Engineering Field Activity, Northwest, Poulsbo, Washington.

Service Type/Location: Janitorial/Custodial; Basewide, Fort Dix, New Jersey

NPA: Occupational Training Center of Burlington County, Mt. Holly, New Jersey.

Contracting Activity: Army Reserve Contracting Center, Fort Dix, New Jersey.

Service Type/Location: Maintenance Service—Re-lamping; Bremerton Naval Complex, Bremerton, Washington.

NPA: Skookum Educational Programs, Port Townsend, Washington.

Contracting Activity: Naval Facilities Engineering Command, Engineering Field Activity, Northwest, Poulsbo, Washington.

Service Type/Location: Maintenance Service—Cargo Door; Bremerton Naval Complex, Bremerton, Washington.

NPA: Skookum Educational Programs, Port Townsend, Washington.

Contracting Activity: Naval Facilities Engineering Command, Engineering Field Activity, Northwest, Poulsbo, Washington.

Service Type/Location: Painting Service—Street Striping; Bremerton Naval Complex, Bremerton, Washington.

NPA: Skookum Educational Programs, Port Townsend, Washington.

Contracting Activity: Naval Facilities Engineering Command, Engineering Field Activity, Northwest, Poulsbo, Washington.

Service Type/Location: Provision & Service of Chemical Toilets; Bremerton Naval Complex, Bremerton, Washington.

NPA: Skookum Educational Programs, Port Townsend, Washington.

Contracting Activity: Naval Facilities Engineering Command, Engineering Field Activity, Northwest, Poulsbo, Washington.

Service Type/Location: Provision & Service of Portable Hand Wash Units; Bremerton Naval Complex, Bremerton, Washington.

NPA: Skookum Educational Programs, Port Townsend, Washington.

Contracting Activity: Naval Facilities Engineering Command, Engineering Field Activity, Northwest, Poulsbo, Washington.

This action does not affect current contracts awarded prior to the effective date of this addition or options that may be exercised under those contracts.

Sheryl D. Kennerly,
Director, Information Management.

[FR Doc. E5-3296 Filed 6-23-05; 8:45 am]

BILLING CODE 6353-01-P